DEPARTMENT OF VETERANS AFFAIRS

38 CFR Chapter I

RIN 2900-AL15

Board of Veterans' Appeals Title Change

AGENCY: Department of Veterans Affairs.

ACTION: Final rule.

SUMMARY: The Board of Veterans' Appeals (Board) adjudicates appeals from denials of claims for veterans' benefits filed with the Department of Veterans Affairs (VA). This document amends VA regulations to reflect that the “Director of Administrative Service (014)” at the Board has been changed to the “Director, Management and Administration (01E)”.

DATES: Effective Date: April 4, 2002.

FOR FURTHER INFORMATION CONTACT: Steven L. Keller, Senior Deputy Vice Chairman (012), Board of Veterans' Appeals, Department of Veterans Affairs, 810 Vermont Avenue, NW., Washington, DC 20420 (202-565-5978).

SUPPLEMENTARY INFORMATION: This final rule merely concerns agency management. Accordingly, we are dispensing with prior notice and comment and delayed effective date provisions of 5 U.S.C. 553.

Paperwork Reduction Act

This document contains no provisions constituting a collection of information under the Paperwork Reduction Act (44 U.S.C. 3501-3520).

Regulatory Flexibility Act

The Secretary of Veterans Affairs hereby certifies that this final rule will not have a significant economic impact on a substantial number of small entities as they are defined in the Regulatory Flexibility Act, 5 U.S.C. 601-612, since this final rule does not contain any substantive provisions. Therefore, pursuant to 5 U.S.C. 605(b), this final rule is exempt from the regulatory flexibility analysis requirements of sections 603 and 604.

There is no Catalog of Federal Domestic Assistance number for this final rule.
Approved: March 25, 2002.
Anthony J. Principi,
Secretary of Veterans Affairs.

For the reasons set out in the preamble, under 38 U.S.C. 501, 38 CFR chapter 1 is amended as set forth below:

CHAPTER I—DEPARTMENT OF VETERANS AFFAIRS

In chapter I, revise all references to “Director, Administrative Service (014)”, “Director of the Administrative Service (014)”, or “Director of Administrative Service (014)” to read “Director, Management and Administration (01E)”.

[FR Doc. 02-8120 Filed 4-3-02; 8:45 am]

BILLING CODE 8320-01-P